FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201217-004.

Agreement Name: Port of Long Beach Data Services Agreement.

Parties: The City of Long Each, acting by and through its Board of Harbor Commissioners, PierPASS LLC, International Transportation Service, LLC; LBCT LLC d/b/a Long Beach Container Terminal LLC.; Total Terminals International, LLC; Pacific Maritime Services, L.L.C.; SSAT (Pier A), LLC; and SSA Terminals, LLC.

Synopsis: The amendment extends the duration of the agreement, revises the maximum amount of compensation payable thereunder in light of the extension, and makes non-substantive revisions to Article 9.5. The parties request expedited review.

Proposed Effective Date: 7/11/2021.

Location: https://www2.fmc.gov/FMC.Agreements.Web/Public/AgreementHistory/13210.

Dated: May 28, 2021.
Rachel E. Dickon,
Secretary.

[FR Doc. 2021-11656 Filed 6-2-21; 8:45 am]

BILLING CODE 6730-02-P